DEPARTMENT OF ENERGY

Federal Energy Regulatory Commission

[Project No. 14787-004]

Black Canyon Hydro, LLC; Notice of Application Accepted for Filing, Scoping Meetings, and Environmental Site Review; Soliciting Motions To Intervene and Protests; and Soliciting Scoping Comments

Take notice that the following hydroelectric application has been filed with the Commission and is available for public inspection.

a. Type of Application: Original major license.

b. Project No.: 14787-004.

c. Date Filed: January 18, 2023.

d. Applicant: rPlus Hydro, LLLP, on behalf of Black Canyon Hydro, LLC (BCH).

e. Name of Project: Seminoe Pumped Storage Project (Seminoe Project or project).

f. Location: The proposed project would be located at the U.S. Bureau of Reclamation's (Reclamation) Seminoe Reservoir on the North Platte River in Carbon County, Wyoming, approximately 35 miles northeast of Rawlins, Wyoming. The project would occupy 1,025.94 acres of land managed by the Bureau of Land Management (BLM) and 77.00 acres managed by Reclamation.

g. Filed Pursuant to: Federal Power Act 16 U.S.C. 791(a)-825(r).

h. Applicant Contact: Lars Dorr, Program Manager for rPlus Hydro, LLLP. Address: Black Canyon Hydro, LLC c/o rPlus Hydro, LLLP 201 S. Main St. Suite 2100 Salt Lake City, Utah 84111. Phone: (858) 925-3743. Email: ldorr@rplusenergies.com.

i. FERC Contact: Michael Tust at (202) 502-6522; or email at michael.tust@ferc.gov.

j. Deadline for filing scoping comments and motions to intervene and protests: November 5, 2024.

The Commission strongly encourages electronic filing. Please file scoping comments and motions to intervene and protests using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: Seminoe Pumped Storage Project (P-14787-004).

The Commission's Rules of Practice and Procedure require all intervenors filing documents with the Commission to serve a copy of that document on each person on the official service list for the project. Further, if an intervener files comments or documents with the Commission relating to the merits of an issue that may affect the responsibilities of a particular resource agency, they must also serve a copy of the document on that resource agency.

k. This application has been accepted for filing, but is not ready for environmental analysis at this time.

l. Project Description: The Seminoe Project would utilize Reclamation's existing 1,017,280 acre-feet Seminoe reservoir on the North Platte River as the lower reservoir and would include the following new facilities: (1) a 8,498-foot-long circumference, 20-foot wide, 65 to 180-foot-high, roller-compacted concrete dam impounding a 10,800-acre-foot upper reservoir at a crest elevation of 7,445 feet; (2) the dam would have a 200-foot-long concrete, ungated, ogee crest emergency spillway with a crest elevation of 7,446 feet; (3) a 75-foot-diameter, covered bell-mouth intake set near the southwestern edge of the upper reservoir at elevation of 7,295 feet; (4) an approximately 680-foot-long, 32-foot-diameter concrete lined-headrace tunnel connecting to a 615-foot-long, 24-foot-diameter aboveground steel conduit which would extend underground for an additional 2,470 feet before discharging to a 30-foot-diameter vertical, concrete-lined shaft; (5) the vertical shaft then connects to a 165-foot-long, 17-foot-diameter concrete, steel-lined penstock and then to the pump-turbines; (6) three pump-turbines each rated at 324 megawatts (MW) for a combined total generating capacity of 972 MW located in the underground powerhouse (machine hall); (7) an approximately 4,350 foot-long, concrete tailrace channel discharging water to a lower intake structure within the existing Seminoe Reservoir at normal maximum water surface elevation of 6,357 feet; (8) a transformer cavern containing 18 kilovolt (kV) generator step-up transformers for each unit, and a gas-insulated switchgear switchyard; (9) power would be transmitted from the transformer gallery via 765-foot-long horizontal tunnel to a vertical cable shaft up to a take-off structure at the surface, and then via two separate, 500 kV, overhead primary transmission lines extending to the 500 kV interconnection at Aeolus Substation, approximately 30 miles to the southeast of Seminoe Reservoir; (10) an approximately 32-foot-diameter main access tunnel would provide access to the machine hall; (11) a 15-foot-wide, 16-foot-high surge chamber access tunnel lined with shotcrete; (12) an approximately 2.6-mile-long access road around the reservoir; (13) a 40-foot-wide road to the main access tunnel portal, including a new bridge over the tailrace of Seminoe Dam; and (14) appurtenant facilities. In addition, portions of Western Area Power Administration's Miracle Mile-Snowy Range 1 115 kV and Miracle Mile-Snowy Range 2 230 kV transmission lines would be relocated around the upper reservoir. Additionally, the existing Bennett Mountain Road (also called Dry Lake Road) for accessing the proposed upper reservoir site and a section of an existing powerline road for accessing the proposed lower intake structure at Seminoe Reservoir would be upgraded (i.e., widened to 24 feet and realigned in places to reduce steep grades) to accommodate two-way traffic and heavy equipment.

BCH would draw 13,400 acre-feet of water from Seminoe Reservoir to initially fill the new upper reservoir and would need 672 acre-feet of water each year to replenish water lost through evaporation. BCH states it would either make contractual arrangements or potentially purchase an additional water right for the annual refill water. BCH states that generation would depend on grid conditions and market demands but that the project is designed to generate for up to approximately 10 hours each day at maximum generating capacity of 972 MW, or for longer durations at reduced generating output. In generating mode, the project would have an estimated maximum operating flow rate of 12,600 cubic feet per second (cfs) at maximum hydraulic capacity with all three turbine units operating. In pumping mode, the project would have an estimated maximum pumping flow rate of 10,500 cfs with all three pumps operating against an upper reservoir minimum operating elevation of 7,350 feet. The pumping capacity decreases to 8,298 cfs at the upper reservoir maximum operating elevation of 7,445 feet. The full pumping cycle to recharge the upper reservoir is estimated at approximately 14.6 hours and the maximum generation is 13 hours.

m. A copy of the application can be viewed on the Commission's website at https://www.ferc.gov using the “eLibrary” link. Enter the docket number excluding the last three digits in the docket number field to access the document. For assistance, contact FERC Online Support (see item j above).

You may also register at https://ferconline.ferc.gov/FERCOnline.aspx to be notified via email of new filings and issuances related to this or other pending projects. For assistance, please contact FERC Online Support (see item j above).

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

When the application is ready for environmental analysis, the Commission will issue a public notice requesting comments, recommendations, terms and conditions, or prescriptions.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

p. The Commission's scoping process will help determine the required level of analysis and satisfy the National Environmental Policy Act (NEPA) scoping requirements, irrespective of whether the Commission issues an environmental assessment or an environmental impact statement.

Scoping Meetings

In addition to written comments solicited by this notice, Commission staff will hold three public scoping meetings at the times and locations noted below. All interested individuals, resource agencies, Native American Tribes, and NGOs are invited to attend any of the meetings to assist Commission staff in identifying the scope of environmental issues that should be analyzed in the NEPA document. The times and locations of these meetings are as follows:

Daytime Scoping Meeting

Date: Tuesday, September 24, 2024.

Time: 10:00 a.m. to 12:00 p.m. MDT.

Location: Hilton Garden Inn Casper.

Address: 1150 N Poplar Street, Casper, Wyoming 82601.

Evening Scoping Meeting

Date: Tuesday, September 24, 2024.

Time: 6:30 p.m. to 8:30 p.m. MDT.

Location: Hilton Garden Inn Casper.

Address: 1150 N Poplar Street, Casper, Wyoming 82601.

Evening Scoping Meeting

Date: Wednesday, September 25, 2024.

Time: 6:30 p.m. to 8:30 p.m. MDT.

Location: Jeffrey Memorial Community Center.

Address: 315 W Pine Street, Rawlins, Wyoming 82301.

Scoping Document 1 (SD1), which outlines the subject areas to be addressed in the environmental document, was mailed to the individuals and entities on the Commission's mailing list. Copies of SD1 will be available at the scoping meetings, or may be viewed on the web at http://www.ferc.gov, using the “eLibrary” link. Follow the directions for accessing information in paragraph m.

Environmental Site Review

BCH and Commission staff will conduct an environmental site review of the project beginning at 8:00 a.m. on Wednesday, September 25, 2024. All interested individuals, resource agencies, Native American Tribes, and NGOs are invited to attend the site review. Participants will initially meet in the lobby at the Hilton Garden Inn at 1150 N Poplar Street, Casper, Wyoming 82601 before traveling to the site. The applicant will provide a detailed site visit agenda that includes approximately 7 stops, and will take up to 8 hours to complete. Attendees are responsible for their own vehicle transport and should wear appropriate outdoor clothing. The existing road to the upper reservoir site is steep and rocky; therefore, attendees wishing to see the upper reservoir site should plan on driving their own 4x4, high clearance, off-road capable vehicle to access that particular site. Please contact Lars Dorr, Program Manager at rPlus at (858) 925-3743 or via email at ldorr@rplusenergies.com no later than Friday September 20, 2024, to register for the environmental site review.

Meeting Procedures

Individuals, NGOs, Native American Tribes, and agencies with environmental expertise and concerns are encouraged to attend the meetings and to assist the staff in defining and clarifying the issues to be addressed in the NEPA document. At the start of each meeting, Commission staff will provide a brief overview of the meeting format and objectives. Individual oral comments will be taken on a one-on-one basis with a court reporter (with Commission staff present). This format is designed to receive the maximum number of oral comments in a convenient way during the timeframe allotted. If you wish to speak, Commission staff will hand out numbers in the order of your arrival. If all individuals who wish to provide comments have had an opportunity to do so, Commission staff may conclude the meeting a half hour earlier than the scheduled time. Please see appendix 1 for additional information on the session format and conduct.¹

¹ The appendix referenced in this notice will not appear in the Federal Register. Copies of the appendix were sent to all those receiving this notice in the mail and are available at www.ferc.gov using the “eLibrary” link. For assistance, contact FERC at FERCOnlineSupport@ferc.gov or call toll free, (886) 208-3676 or TTY (202) 502-8659.

Scoping comments will be recorded by the court reporter and become part of the public record for this proceeding. Transcripts will be publicly available on FERC's eLibrary system. If a significant number of people are interested in providing oral comments in the one-on-one settings, a time limit of 5 minutes may be implemented for each commentor.

It is important to note that the Commission provides equal consideration to all comments received, whether filed in writing or provided orally at a scoping session. Although there will not be a formal presentation, Commission staff will be available throughout the scoping session to answer your questions about the environmental review process. Representatives from BCH will also be present to answer project-specific questions.

q. Procedural Schedule: The application will be processed according to the following anticipated processing schedule. Revisions to the schedule will be made as appropriate. The schedule for issuing draft and final NEPA documents is consistent with the Commission's Notice of Revised Schedule issued January 10, 2024:

Scoping Document 1 Issued—September 2024

Acceptance and Scoping Notice Issued—September 2024

Scoping Document 1 Comments Due—November 2024

Issue Scoping Document 2 (if needed)—December 2024

Issue Notice of Ready for Environmental Analysis—December 2024

Comments, Recommendations and Agency Terms and Conditions/Prescriptions Due—February 2025

Applicant's Reply Comments Due—March 2025

Commission Issues Draft NEPA Document—August 2025

Commission Issues Final NEPA Document—March 2026

Dated: September 6, 2024.
Debbie-Anne A. Reese,
Acting Secretary.

Appendix 1

FERC Session Format and Conduct

Session Format

FERC is conducting the session to solicit your scoping comments. There will not be a formal presentation by Commission staff; however, FERC staff is available to answer questions about the environmental review process. The session format is as follows:

• Tickets are handed out on a “first come, first serve” basis starting at the time listed in the Notice.

• Individuals are called in ticket number order to provide oral comments to be transcribed by a court reporter for the public record.

• Time limits on oral comments may be enforced to ensure that all those wishing to comment have the opportunity to do so within the designated session time.

• Additional materials about FERC and the environmental review process are available at information stations at the session.

Session Conduct

Proper conduct will help the sessions maintain a respectful atmosphere for attendees to learn about the FERC Environmental Review Process and to be able to provide comments effectively.

• Loudspeakers, lighting, oversized visual aids, or other visual or audible disturbances are not permitted.

• Disruptive video and photographic equipment may not be used.

• Conversations should be kept to a reasonable volume. Attendees should be respectful of those providing oral comments to the court reporters.

• Recorded interviews are not permitted within the session space.

• FERC reserves the right end the session if disruptions interfere with the opportunity for individuals to provide oral comments or if there is a safety or security risk.

[FR Doc. 2024-20768 Filed 9-11-24; 8:45 am]

BILLING CODE 6717-01-P